Title 3—

The President

Executive Order 13824 of February 26, 2018

President's Council on Sports, Fitness, and Nutrition

By the authority vested in me as President by the Constitution and the laws of the United States of America, and to promote the economic, academic, and social benefits of youth sports, fitness, and nutrition, it is hereby ordered as follows:

Section 1. Revocation. Executive Order 13545 of June 22, 2010, is hereby revoked.

Sec. 2. Amendment. Executive Order 13265 of June 6, 2002, is hereby amended as follows:

(a) The title is revised to read as follows: “President's Council on Sports, Fitness, and Nutrition.”

(b) The preamble is revised to replace the phrase, “President's Council on Physical Fitness and Sports” with “President's Council on Sports, Fitness, and Nutrition.”

(c) Sections 1 through 5 are revised to read as follows:

“Section 1. Purpose. My Administration recognizes the benefits of youth sports participation, physical activity, and a nutritious diet in helping create habits that support a healthy lifestyle and improve the overall health of the American people. My Administration therefore aims to expand and encourage youth sports participation, and to promote the overall physical fitness, health, and nutrition of all Americans.

Good health, including physical activity and proper nutrition, supports Americans', particularly children's, well-being, growth, and development. Participating in sports allows children to experience the connection between effort and success, and it enhances their academic, economic, and social prospects. Many of America's leaders attribute their lifetime achievements to lessons learned through sports participation and athletic activity. Additionally, youth sports help working parents and guardians by providing their children opportunities to engage in productive, positive activities outside of school. Unfortunately, during the past decade youth participation in team sports has declined. As of 2016, only 37 percent of children played team sports on a regular basis, down from 45 percent in 2008. Particularly troubling is that sports participation disproportionately lags among young girls and children who are from economically distressed areas.

Sec. 2. Policy. (a) The Secretary of Health and Human Services (Secretary), in carrying out the Secretary's responsibilities for public health and human services, shall develop a national strategy to expand children's participation in youth sports, encourage regular physical activity, including active play, and promote good nutrition for all Americans. This national strategy shall focus on children and youth in communities with below-average sports participation and communities with limited access to athletic facilities or recreational areas. Through this national strategy, the Secretary shall seek to:

(i) increase awareness of the benefits of participation in sports and regular physical activity, as well as the importance of good nutrition;

(ii) promote private and public sector strategies to increase participation in sports, encourage regular physical activity, and improve nutrition;

(iii) develop metrics that gauge youth sports participation and physical activity to inform efforts that will improve participation in sports and regular physical activity among young Americans; and

(iv) establish a national and local strategy to recruit volunteers who will encourage and support youth participation in sports and regular physical activity, through coaching, mentoring, teaching, or administering athletic and nutritional programs.

Sec. 3. The President's Council on Sports, Fitness, and Nutrition. (a) There is hereby established the President's Council on Sports, Fitness, and Nutrition (Council).

(b) The Council shall be composed of up to 30 members recommended by the Secretary and appointed by the President. Members shall serve for a term of 2 years, shall be eligible for reappointment, and may continue to serve after the expiration of their terms until the appointment of a successor. The President may designate one or more of the members as Chair or Vice Chair.

Sec. 4. Functions of the Council. (a) The Council shall advise the President, through the Secretary, concerning progress made in carrying out the provisions of this order and shall recommend to the President, through the Secretary, actions to accelerate such progress.

(b) The Council shall recommend to the Secretary actions to expand opportunities at the national, State, and local levels for participation in sports and engagement in physical fitness and activity.

(c) The Council's performance of these functions shall take into account the Department of Health and Human Services' Physical Activity Guidelines for Americans, including consideration for youth with disabilities.

Sec. 5. Administration. (a) Each executive department and agency shall, to the extent permitted by law and subject to the availability of funds, furnish such information and assistance to the Secretary and the Council as they may request.

(b) The members of the Council shall serve without compensation for their work on the Council. Members of the Council may, however, receive travel expenses, including per diem in lieu of subsistence, as authorized by law for persons serving intermittently in Government service (5 U.S.C. 5701-5707).

(c) To the extent permitted by law, the Secretary shall furnish the Council with necessary staff, supplies, facilities, and other administrative services. The expenses of the Council shall be paid from funds available to the Secretary.

(d) The Secretary shall appoint an Executive Director of the Council who shall serve as a liaison to the Secretary and the Advisor to the President on matters and activities pertaining to the Council.

(e) The Council may, with the approval of the Secretary, establish subcommittees as appropriate to aid in its work.

(f) The seal prescribed by Executive Order 10830 of July 24, 1959, as amended, shall be modified to reflect the name of the Council as established by this order.”

(d) Section 5 is relabeled as Section 6 and amended as follows:

(a) A new subsection (d) is added to read: “Nothing in this order shall be construed to impair or otherwise affect:

(i) the authority granted by law to an executive department or agency, or the head thereof; or

(ii) the functions of the Director of the Office of Management and Budget relating to budgetary, administrative, or legislative proposals.”

(b) A new subsection (e) is added to read: “This order shall be implemented consistent with applicable law and subject to the availability of appropriations.”

(c) A new subsection (f) is added to read: “This order is not intended to, and does not, create any right or benefit, substantive or procedural, enforceable at law or in equity by any party against the United States, its departments, agencies, or entities, its officers, employees, or agents, or any other person.”

THE WHITE HOUSE,

February 26, 2018.

[FR Doc. 2018-04414

Filed 3-1-18; 8:45 am]

Billing code 3295-F8-P